DEPARTMENT OF HEALTH AND HUMAN SERVICES

Agency for Healthcare Research and Quality

Notice of Meetings

AGENCY: Agency for Healthcare Research and Quality (AHRQ), HHS.

ACTION: Notice of Five AHRQ Subcommittee Meetings.

SUMMARY: The subcommittees listed below are part of AHRQ's Health Services Research Initial Review Group Committee. Grant applications are to be reviewed and discussed at these meetings. Each subcommittee meeting will commence in open session before closing to the public for the duration of the meeting. These meetings will be closed to the public in accordance with 5 U.S.C. App. 2 section 10(d), 5 U.S.C. section 552b(c)(4), and 5 U.S.C. 552b(c)(6).

Note: Due to the Federal government shutdown, AHRQ is republishing its Study Section meetings with new dates. Please see below.

DATES: See below for dates of meetings:

1. Healthcare Safety and Quality Improvement Research (HSQR)

Date: October 23-24, 2013 (Open from 8:00 a.m. to 8:30 a.m. on October 23 and closed for remainder of the meeting)

2. Healthcare Effectiveness and Outcomes Research (HEOR)

Date: October 28, 2013 (Open from 8:30 a.m. to 9:00 a.m. on October 28 and closed for remainder of the meeting)

3. Health Care Research and Training (HCRT) (Telephone Conference Call)

Date: October 30, 2013 (Open from 8:00 a.m. to 8:30 a.m. on October 30 and closed for remainder of the meeting)

4. Health System and Value Research (HSVR)

Date: October 31, 2013 (Open from 8:00 a.m. to 8:30 a.m. on October 31 and closed for remainder of the meeting)

5. Healthcare Information Technology Research (HITR)

Date: October 31-November 1, 2013 (Open from 8:00 a.m. to 8:30 a.m. on October 31 and closed for remainder of the meeting)

ADDRESSES: Meetings of Healthcare Safety and Quality Improvement Research (HSQR), Healthcare Effectiveness and Outcomes Research (HEQR), Health System and Value Research (HSVR), and Health System and Value Research (HSVR) will take place at: Hyatt Regency Hotel Bethesda, One Metro Center, Bethesda, MD 20814.

Conference Call of Health Care Research and Training (HCRT) meeting will take place at: AHRQ, (Conference Room TBD), 540 Gaither Road, Rockville, MD 20850.

FOR FURTHER INFORMATION CONTACT: (to obtain a roster of members, agenda or minutes of the non-confidential portions of the meetings.)

Mrs. Bonnie Campbell, Committee Management Officer, Office of Extramural Research Education and Priority Populations, AHRQ, 540 Gaither Road, Suite 2000, Rockville, Maryland 20850, Telephone (301) 427-1554.

SUPPLEMENTARY INFORMATION: In accordance with section 10(a)(2) of the Federal Advisory Committee Act (5 U.S.C. App. 2), AHRQ announces meetings of the scientific peer review groups listed above, which are subcommittees of AHRQ's Health Services Research Initial Review Group Committee. Each subcommittee meeting will commence in open session before closing to the public for the duration of the meeting. The subcommittee meetings will be closed to the public in accordance with the provisions set forth in 5 U.S.C. App. 2 section 10(d), 5 U.S.C. 552b(c)(4), and 5 U.S.C. 552b(c)(6) The grant applications and the discussions could disclose confidential trade secrets or commercial property such as patentable material, and personal information concerning individuals associated with the grant applications, the disclosure of which would constitute a clearly unwarranted invasion of personal privacy.

Agenda items for these meetings are subject to change as priorities dictate.

Dated: October 24, 3013.
Richard Kronick,
AHRQ Director.

[FR Doc. 2013-25833 Filed 10-30-13; 8:45 am]

BILLING CODE 4160-90-P